DEPARTMENT OF THE INTERIOR

National Park Service

Notice of Intent To Repatriate Cultural Items in the Control of the Denver Art Museum, Denver, CO

AGENCY: National Park Service.

ACTION: Notice.

Notice is hereby given under the Native American Graves Protection and Repatriation Act, 43 CFR 10.10 (a)(3), of the intent to repatriate cultural items in the possession of the Denver Art Museum (DAM), Denver, CO which meet the definition of “sacred object” under Section 2 of the Act.

The 17 cultural items are: A Motoki Society snake headdress bundle (1946.60) consisting of a beaded leather snake, shell, paint stick, two paint bags, three grass braids, three eagle feather uprights, and an eagle bone whistle; a Motoki Society snake headdress bundle (1946.208) consisting of a beaded leather snake, leather bag, braid of sweetgrass, gut tubular bag for feathers, four sticks with eagle feathers, a paint stick, and an eagle bone whistle; a Motoki Society snake headdress bundle component (1946.103) consisting of a bag containing green paint; a Motoki Society buffalo headdress bundle (1938.143) consisting of a parfleche and a headdress of bison fur; an imitation Motoki Society headdress bundle (1946.216) consisting of a parfleche, a cloth wrapping, a headdress made of bison fur, a parfleche containing nine paint containers, three shells, and a paint stick; a component (1946.186) of the preceding imitation Motoki Society bundle consisting of an eagle bone whistle with attached string of blue glass beads; a Motoki Society bird headdress bundle (1938.254) consisting of a parfleche, a headdress made of bison fur and feathers, an eagle bone whistle, two shells, two cloth wrappings, a paint stick, and four braids and tassel of sweetgrass, a Motoki Society bird headdress bundle (1946.129) consisting of a headdress made of bison fur and feathers, and a pair of wooden sticks (a shell attributed to this bundle actually goes with 1946.208); a Dog Society headdress (1938.135) consisting of a feather bonnet with red flannel trailer with attached eagle feathers; a rattle (1938.217) associated with the preceding headdress and consisting of wood stick with attached ermine tails, feathers, and bells; a Dog Society rattle (1938.225) consisting of a wood stick with a fringe of bells and an attached feather; an All Brave Dog Society headdress bundle (1938.265) consisting of a parfleche and headdress made of red strouding with feathers, weasel tails, strands of quill, and bells; an All Brave Dog Society rattle bundle (1939.129) consisting of a parfleche and rattle with feathers; an All Brave Dog Society headdress bundle (1939.132) consisting of a parfleche, headdress made of red strouding with two bear claws, feathers, and weasel tails, and rattle with attached feathers; a Children's Medicine Pipe Bundle (1946.207) consisting of a parfleche pipe with black Micmac-type bowl, deerskin and cloth wrappers for pipe, eagle bone whistle, and sweetgrass; and a beaver bundle pipe bowl (1942.178) made of sandstone and bladder bag.

A Motoki Society snake headdress bundle (1946.60) was kept by a society member named Mrs. Healy until her death about 1921. In 1939, her daughter, Katy, either sold the headdress bundle to Madge Hardin Walters via Percy Creighton, a Blood man, or she sold it to Creighton who sold it to Walters. Walters loaned the bundle to DAM in 1940 and sold it to DAM in 1946.

A Motoki Society snake headdress bundle (1946.208) was sold by Percy Creighton in 1943 to Madge Hardin Walters. It is possible, but uncertain, that this headdress bundle was kept by a society member named Mrs. Scratching Chief until her death about 1930, and her daughter, Mrs. Black Plume, sold it to Percy Creighton, and he sold it to Walters. In 1943, Walters loaned the bundle to DAM and sold it to DAM in 1946.

A Motoki Society snake headdress bundle (1940.103) was originally kept by one of two members of the Motoki Society, named Small Face Woman and Separate Spear Woman, but it is not clear which was the keeper. In 1938, this bundle was sold by Percy Creighton to Madge Hardin Walters. In 1953, this bundle was exchanged by DAM to the National Museum of Natural History, but a component consisting of a bag containing green paint was retained by DAM.

In 1938, a Motoki Society buffalo headdress bundle (1938.143) was sold by Madge Hardin Walters to DAM. This bundle was mistakenly associated with an object history authored by Ethel Tail Feathers and consequently identified incorrectly as a “Beaver Bundle buffalo headdress.” It may have been sold to Walters by Percy Creighton or by a party who used Creighton as an intermediary. Consultation with the Blood Tribe Motoki Society in 1998 confirmed that this headdress conforms to the style of a Motoki Society buffalo headdress.

In 1939, a probable imitation Motoki Society buffalo headdress bundle (1946.216) was sold by Frank Red Crow, a Blood man, to Madge Hardin Walters. In 1940, Walters loaned this bundle to DAM, and DAM purchased this bundle from Walters in 1946. Red Crow provided two conflicting accounts of the history of this headdress. In correspondence to Walters in 1939, Red Crow wrote that a man inherited the headdress from his mother who had died “some time ago.” Red Crow asserted that he was simply acting as an intermediary between this man and Walters. In 1951, however, Red Crow told John Ewers that he arranged the sale to Walters of the headdress from a member of the society named Owl Woman. Also in 1951, Cecile Black Boy told Ewers that, in her opinion, Red Crow had simply “just made up” the headdress for sale to Walters. Following extensive research on Blood conveyance patterns, DAM is skeptical that any living member of the Motoki Society would have sold her headdress bundle during the 1930s. In a 1977 publication, Adolph Hungry Wolf presented oral information that Red Crow was known to reproduce objects for sale, an accusation supported by other information collected by John Ewers in 1951 from Chewing Black Bones. In DAM's opinion, this headdress was probably made as a replica by Frank Red Crow for sale to Walters. DAM finds that this headdress does not fit a NAGPRA category.

A Motoki Society headdress bundle component (1946.186) consisting of an eagle bone whistle with attached string of blue glass beads is probably associated with the above buffalo headdress bundle (1946.216) on the basis of an uncontested association made in a DAM accession record. As discussed above, this headdress bundle component was probably made as a replica by Frank Red Crow for sale to Walters. DAM finds that this headdress bundle component does not fit a NAGPRA category.

In 1938, a Motoki Society bird headdress bundle (1938.254) was sold to DAM by Madge Hardin Walters. An attribution of unknown significance is made on one DAM record: “From Hungry Crow.”

A Motoki Society bird headdress bundle (1938.136) was kept by a member of the society named Awl Body until her death sometime around 1904-1910. Her daughter, Mrs. Mountain Horse, sold the bundle either to Percy Creighton or to Madge Hardin Walters via Creighton in 1939. In 1940, Walters sold this bundle to DAM.

In 1940, a Motoki Society bird headdress bundle (1946.129) was loaned to DAM by Madge Hardin Walters, who sold this bundle to DAM in 1946.

In 1936, a Dog Society headdress (1938.135) and rattle (1938.217) were sold by Percy Creighton, probably acting as an intermediary on behalf of an unnamed person, to Madge Hardin Walters, who loaned this headdress and rattle to the DAM. In 1938, Walters sold this headdress and rattle to DAM.

In 1938, a Dog Society rattle (1938.225) was sold to DAM by Madge Hardin Walters.

In 1937, an All Brave Dog Society headdress bundle (1938.265) was sold by a man named Gambler to Madge Hardin Walters via Percy Creighton. In February, 1938, Walters loaned this bundle to DAM, and sold it to DAM in April, 1938.

Prior to 1939, an All Brave Dog Society headdress bundle (1939.132) was sold by a Blood man named Dick Black Plume to Madge Hardin Walters via Percy Creighton. In 1939, Walters sold this bundle to DAM.

In 1941, a Children's Medicine Pipe Bundle (1946.207) was sold by a Blood man named Charlie Davis to Madge Hardin Walters via Percy Creighton. Also in 1941, Walters loaned this bundle to DAM, and sold it to DAM in 1946. DAM finds that the Blackfoot Confederacy has not presented sufficient evidence to show this bundle meets the NAGPRA definition for sacred object.

In 1942, a beaver bundle (1942.178) was sold by Madge Hardin Walters to DAM. In 1952, the bundle was exchanged to the Peabody Museum of Archaeology and Ethnology, Cambridge, MA, but a pipe bowl was retained by DAM. DAM finds that the Blackfoot Confederacy has not presented sufficient evidence to show this pipe bowl meets the NAGPRA definition for sacred object.

Denver Art Museum records show that the above cultural items originated from citizens of the Blood Tribe during the 1930s and 1940s. Consultation with officials and religious leaders of the Blackfoot Confederacy in 1998 confirm the identifications of the cultural items as originating from the tribe and that the items associated with the societies are needed for ceremonial objects needed by traditional Native American religious leaders for the practice of traditional Native American religions by their present-day adherents. The Blood Tribe is one of four tribes comprising the Blackfoot Confederacy, which includes the Blackfeet Nation of Montana, the Peigan Nation, and the Siksika Nation. The present-day Blackfoot Confederacy is descended from the four tribes of the Blackfoot Confederacy as it existed during the 1930s. The Denver Art Museum holds right of possession to all of these items pursuant to Section 2 of the Act, and offers the items as gifts to the Blackfeet Nation of Montana and the Blood Tribe of Alberta, Canada.

Based on the above-mentioned information, officials of the Denver Art Museum have determined that, pursuant to 43 CFR 10.2 (d)(3), these 13 cultural items are specific ceremonial objects needed by traditional Native American religious leaders for the practice of traditional Native American religions by their present-day adherents. Officials of the Denver Art Museum have also determined that, pursuant to 43 CFR 10.2 (e), there is a relationship of shared group identity which can be reasonably traced between these 17 items and the Blackfeet Nation of Montana on behalf of the Blackfoot Confederacy (Blackfeet Nation of Montana, the Peigan Nation, the Blood Tribe, and the Siksika Nation).

This notice has been sent to officials of the Blackfeet Nation of Montana on behalf of the Blackfoot Confederacy (Blackfeet Nation of Montana, the Peigan Nation, the Blood Tribe, and the Siksika Nation). Representatives of any other Indian tribe that believes itself to be culturally affiliated with these objects should contact Nancy J. Blomberg, Curator of Native Arts, Denver Art Museum, 100 West 14th Avenue Parkway, Denver, CO 80204; telephone: (720) 913-0161 before May 30, 2000. Repatriation of these objects to the Blackfeet Nation of Montana on behalf of the Blackfoot Confederacy (Blackfeet Nation of Montana, the Peigan Nation, the Blood Tribe, and the Siksika Nation) may begin after that date if no additional claimants come forward.

Dated: April 20, 2000.
Francis P. McManamon,
Departmental Consulting Archeologist, Manager, Archeology and Ethnography Program.

[FR Doc. 00-10464 Filed 4-26-00; 8:45 am]

BILLING CODE 4310-70-F